DEPARTMENT OF COMMERCE

International Trade Administration

[A-580-844]

Notice of Final Determination of Sales at Less Than Fair Value: Steel Concrete Reinforcing Bars From the Republic of Korea

AGENCY: Import Administration, International Trade Administration, Department of Commerce.

EFFECTIVE DATE: June 22, 2001.

FOR FURTHER INFORMATION CONTACT: Mark Manning or Jeff Pedersen at (202) 482-3936 and (202) 482-4195, AD/CVD Enforcement, Group II, Office 4, Import Administration, International Trade Administration, U.S. Department of Commerce, 14th Street and Constitution Avenue, NW., Washington, DC 20230.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR Part 351 (2000).

Final Determination

We determine that steel concrete reinforcing bar (rebar) from the Republic of Korea (Korea) is being sold, or is likely to be sold, in the United States at less than fair value (LTFV), as provided in section 735 of the Act. The estimated margins of sales at LTFV are shown in the Final Determination of Investigation section of this notice.

Case History

The preliminary determination in this investigation was published on January 30, 2001. See Notice of Preliminary Determination of Sales at Less Than Fair Value and Postponement of Final Determination: Steel Concrete Reinforcing Bars From the Republic of Korea, 66 FR 8348 (January 30, 2001) (Preliminary Determination). Since the preliminary determination, we verified the questionnaire responses of Dongkuk Steel Mill Co., Ltd. (DSM) and Korea Iron & Steel Co., Ltd. (KISCO), the respondents, on February 12 through February 23, 2001, and on March 28 through March 30, 2001.¹ The petitioner ² and respondent filed case briefs on May 21, 2001 and rebuttal briefs on May 29, 2001. A public hearing was not held for this investigation because the petitioner and respondent withdrew their request for such a hearing on June 1, 2001 and June 8, 2001, respectively.

¹ The Department collapsed DSM and KISCO into a single entity, referred to as DSM/KISCO, for the purposes of this antidumping investigation. See Memorandum from Ronald Trentham to Tom Futtner, “Decision Memorandum: Whether to Collapse Dongkuk Steel Mill Co., Ltd. and Korea Iron and Steel Co., Ltd. Into a Single Entity,” dated December 5, 2000.

² The petitioner in the rebar investigations is the Rebar Trade Action Coalition (RTAC), and its individual members, AmeriSteel, Auburn Steel Co., Inc., Birmingham Steel Corp., Border Steel, Inc., Marion Steel Company, Riverview Steel, and Nucor Steel and CMC Steel Group. (Auburn Steel was not a petitioner in the Indonesia case).

Section 734(m) of the Act states that in the case of regional industry investigations, the administering authority shall offer exporters the opportunity to enter into suspension agreements. Proposed and finalized agreements in these cases must comport with the requirements set forth under section 734 of the Act for the suspension of antidumping duty investigations. All exporters participating in the instant investigation were aware of their opportunity to propose suspension agreements. See Memorandum from Holly A. Kuga to The File, “Opportunity to Propose Suspension Agreements,” dated March 30, 2001.

The Department has conducted this investigation in accordance with section 731 of the Act.

Scope of Investigation

For purposes of this investigation, the product covered is all rebar sold in straight lengths, currently classifiable in the Harmonized Tariff Schedule of the United States (HTSUS) under item number 7214.20.00 or any other tariff item number. Specifically excluded are plain rounds (i.e., non-deformed or smooth bars) and rebar that has been further processed through bending or coating. HTSUS subheadings are provided for convenience and Customs purposes. The written description of the scope of this proceeding is dispositive.

Period of Investigation

The period of investigation (POI) is April 1, 1999, through March 31, 2000. This period corresponds to the four most recent fiscal quarters prior to the month of the filing of the petition (i.e., June 2000).

Verification

As provided in section 782(i) of the Act, we verified the information submitted by the respondents for use in our final determination. We used standard verification procedures including examination of relevant accounting and production records, and original source documents provided by the respondents.

Use of Facts Available

In the preliminary determination, the Department determined that the application of total adverse facts available (FA) was appropriate with respect to Hanbo Iron & Steel Co., Ltd. (Hanbo), a mandatory respondent that failed to respond to the Department's questionnaire. As FA, the Department applied a margin rate of 102.28 percent, the highest alleged margin for Korea in the petition. The interested parties did not object to the use of adverse facts available for Hanbo, or to the Department's choice of facts available, and no new facts were submitted which would cause the Department to revisit this decision. Therefore, for the reasons set out in the preliminary determination, we have continued to use the highest margin alleged by the petitioner for the purposes of this final determination notice.

Analysis of Comments Received

All issues raised in the case and rebuttal briefs by parties to this proceeding and to which we have responded are listed in the Appendix to this notice and addressed in the Memorandum from Bernard T. Carreau to Faryar Shirzad, “Issues Memorandum for the Final Determination of Sales at Less Than Fair Value: Steel Concrete Reinforcing Bars from the Republic of Korea,” dated June 14, 2001 (Issues Memorandum), which is hereby adopted by this notice. Parties can find a complete discussion of the issues raised in this investigation and the corresponding recommendations in this public memorandum which is on file in the Central Records Unit, room B-099 of the main Department building. In addition, a complete version of the Issues Memorandum can be accessed directly on the Web at http://ia.ita.doc.gov. The paper copy and electronic version of the Issues Memorandum are identical in content.

Changes Since the Preliminary Determination

Based on our findings at verification, and analysis of comments received, we have made adjustments to the calculation methodologies in calculating the final dumping margin in this proceeding. We made the following changes: (1) Revised DSM and KISCO's inventory carrying cost, (2) deducted a new U.S. direct selling expense, USBANKU, in our calculation of the net U.S. price for sales through DSM's U.S. affiliate, (3) adjusted KISCO's general and administrative (G&A) expense rate and interest expense rate, and (4) adjusted DSM's G&A expense rate and interest expense rate. For a further discussion of these changes, see Memorandum from Mark Manning to the File, “Calculation Memorandum of the Final Determination for the Investigation of Donguku Steel Mill Col., Ltd., and Korea Iron & Steel Co., Ltd.,” June 14, 2001; Memorandum from Michael Harrison to Neal Halper, “Cost of Production and Constructed Value Calculation Adjustments for the Final Determination,” June 14, 2001; and Memorandum from Robert Greger to Neal Halper, “Cost of Production and Constructed Value Calculation Adjustments for the Final Determination,” June 14, 2001.

Critical Circumstances

Based on our analysis of the information on the record of this investigation, we have determined, for purposes of the final determination, that critical circumstances do not exist with respect to imports of rebar from DSM/KISCO and the “all others” companies, but do exist with respect to imports of rebar from Hanbo. For further details, see Memorandum from Holly A. Kuga to Bernard T. Carreau, “Antidumping Duty Investigation of Steel Concrete Reinforcing Bars from the Republic of Korea—Final Determination of Critical Circumstances,” dated June 14, 2001.

Final Determination of Investigation

We determine that the following weighted-average percentage margins exist for the period April 1, 1999 through March 31, 2000:

Manufacturer/exporter | Margin (percent)
Dongkuk Steel Mill Co., Ltd./Korea Iron & Steel Co., Ltd | 22.89
Hambo Iron & Steel Co., Ltd | 102.28
All Others | 22.89

Continuation of Suspension of Liquidation

Pursuant to section 735(c)(1)(B) of the Act, we are instructing the U.S. Customs Service to continue to suspend liquidation of all entries of rebar from Korea that are entered, or withdrawn from warehouse, for consumption on or after January 30, 2001 (the date of publication of the Preliminary Determination in the Federal Register). In the case of rebar produced by Hanbo, because of our affirmative critical circumstances finding, and in accordance with section 735(a)(3) of the Act, we are directing the U.S. Customs Service to suspend liquidation of all entries of rebar produced by Hanbo that are entered, or withdrawn from warehouse, for consumption on or after November 1, 2000, which is 90 days prior to the date the Preliminary Determination was published in the Federal Register. The Customs Service shall continue to require a cash deposit or the posting of a bond equal to the estimated amount by which the normal value exceeds the U.S. price as shown above. The suspension of liquidation instructions will remain in effect until further notice.

International Trade Commission Notification

In accordance with section 735(d) of the Act, we have notified the International Trade Commission (ITC) of our determination. As our final determination is affirmative, the ITC will determine, within 45 days, whether these imports are causing material injury, or threat of material injury, to an industry in the United States. If the ITC determines that material injury, or threat of injury does not exist, the proceeding will be terminated and all securities posted will be refunded or canceled. If the ITC determines that such injury does exist, the Department will issue an antidumping order directing Customs officials to assess antidumping duties on all imports of the subject merchandise entered or withdrawn from warehouse for consumption on or after the effective date of the suspension of liquidation.

This determination is issued and published in accordance with sections 735(d) and 777(i)(1) of the Act.

Dated: June 14, 2001.
Faryar Shirzad,
Assistant Secretary for Import Administration.

Appendix—Topics in Issues Memorandum

Issues Relating to Both DSM and KISCO

1. Collapsing

2. Allocation of Selling, General, and Administrative Expenses

Issues Relating to DSM

3. Level of Trade Adjustment

4. Inventory Carrying Cost

5. U.S. Short-Term Interest Rate Calculation

6. Unreported Affiliated Party

7. Gain on Disposal of Fixed Assets

8. Short-Term Interest Expense Rate

9. Foreign Exchange Gains and Losses

10. Scrap Recovery

Issues Relating to KISCO

11. U.S. Short-term Interest Rate Calculation

12. Upward Price Adjustments

13. General and Administrative Expenses

[FR Doc. 01-15742 Filed 6-21-01; 8:45 am]

BILLING CODE 3510-DS-P